DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: 2002 New York City Housing and Vacancy Survey.

Form Number(s): H-100, H-105, H-108, H-100(L), H-100(L)A.

Agency Approval Number: 0607-0757.

Type of Request: Reinstatement, with change, of an expired collection.

Burden: 11,200 hours.

Number of Respondents: 17,200.

Avg Hours Per Response: 35 minutes.

Needs and Uses: The Census Bureau plans to conduct the 2002 New York City Housing and Vacancy Survey (NYCHVS) under contract for the City of New York. The purpose of the survey is to measure the supply, condition, and vacancy rate of housing in the City. Vacancy rate is the primary factor in determining the continuation of rent control regulations. Other survey information is used by city and state agencies for planning purposes as well as the private sector for business decisions. The laws of New York require such a survey to be conducted every three years.

Census Bureau interviewers will conduct personal visit interviews at a sample of housing units in the city, the vast majority of which are apartments in apartment buildings. Basic demographic information will be collected from residents along with information about living conditions (rent, facilities, maintenance, neighborhood, etc.). This information will be collected from rental agents or other knowledgable persons in the case of vacant units. A small number of reinterviews with agents or landlords will be conducted for quality assurance purposes. We will also determine, by observation only, if a sample of units known to have been lost to the housing inventory have been reconverted for residential use.

Affected Public: Individuals or households, Businesses or other for-profit.

Frequency: Every 3 years.

Respondent's Obligation: Voluntary.

Legal Authority: Title 13 U.S.C., Section 8b.

OMB Desk Officer: Susan Schechter, (202) 395-5103.

Copies of the above information collection proposal can be obtained by calling or writing Madeleine Clayton, Departmental Paperwork Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: June 28, 2001.
Madeleine Clayton,
Departmental Paperwork Clearance Officer, Office of the Chief Information Officer.

[FR Doc. 01-16648 Filed 7-2-01; 8:45 am]

BILLING CODE 3510-07-P